DEPARTMENT OF DEFENSE

Defense Acquisition Regulations System

48 CFR Parts 212, 225, and 252

[Docket DARS-2022-0003]

RIN 0750-AL18

Defense Federal Acquisition Regulation Supplement: United States-Mexico-Canada Agreement (DFARS Case 2020-D032)

Correction

In Proposed Rule document 2022-04009, appearing on pages 11002-11009, in the issue of Monday, February 28, 2022, make the following correction:

On page 11002, in the third column, after the DATES heading, in the third and fourth lines, “May 27, 2022” is corrected to read “April 29, 2022”.

[FR Doc. C1-2022-04009 Filed 3-7-22; 8:45 am]

BILLING CODE 0099-10-D